DEPARTMENT OF HEALTH AND HUMAN SERVICES

Health Resources and Services Administration

Agency Information Collection Activities: Submission for OMB Review; Comment Request

Periodically, the Health Resources and Services Administration (HRSA) publishes abstracts of information collection requests under review by the Office of Management and Budget (OMB), in compliance with the Paperwork Reduction Act of 1995 (44 U.S.C. Chapter 35). To request a copy of the clearance requests submitted to OMB for review, e-mail paperwork@hrsa.gov or call the HRSA Reports Clearance Office on (301) 443-1129.

The following request has been submitted to the Office of Management and Budget for review under the Paperwork Reduction Act of 1995:

Proposed Project: The National Health Service Corps (NHSC) Scholarship Program Application (OMB No. 0915-0146)—[Revision]

The National Health Service Corps (NHSC) Scholarship Program provides the NHSC with the health professionals it requires to carry out its mission of providing primary health care to populations residing in areas of greatest need. Under this program, health professions students are awarded scholarships in return for service in a federally designated Health Professional Shortage Area (HPSA). Students are supported who are well qualified to participate in the NHSC Scholarship Program and who want to assist the NHSC in its mission, both during and after their period of obligated service. The NHSC Scholarship Program forms are used to collect relevant information necessary to make award determinations. Scholars are selected for these competitive awards based on the information provided in the application, forms, and supporting documentation. Awards are made to applicants who demonstrate a high potential for providing quality primary health care services in HPSAs. The program forms include the following: The NHSC Scholarship Program Application, Academic and Non-Academic Evaluation Letters (formerly Letters of Recommendation), the Authorization to Release Information, the Verification of Acceptance/Good Standing Report, the Receipt of Exceptional Financial Need Scholarship, the Verification Regarding Disadvantaged Background and the Acceptance/Declination Form. Also included are the Data Collection Worksheet, which is completed by the schools of program participants, the Deferment Request Form, which is completed by program participants and the Six-Month Service Obligation Verification Form, which is completed by program participants and their sites.

The annual estimate of burden for applicants is as follows:

Instrument | Number of respondents | Responses/ respondent | Total responses | Hours per response | Total burden hours
NHSC Scholarship Program Application | 1,800 | 1 | 1,800 | 2.0 | 3,600
Evaluation Letters | 1,800 | 2 | 3,600 | .50 | 1,800
Authorization to Release Information | 1,800 | 1 | 1,800 | .10 | 180
Verification of Acceptance/Good Standing Report | 1,800 | 1 | 1,800 | .25 | 450
Receipt of Exceptional Financial Need Scholarship | 100 | 1 | 100 | .25 | 25
Verification Regarding Disadvantaged Background | 300 | 1 | 300 | .25 | 75
Acceptance/Declination Form | 250 | 1 | 250 | .10 | 25
Total |  |  | 9,400 |  | 6,155

The annual estimate of burden for participants/schools/sites is as follows:

Instrument | Number of respondents | Responses/ respondent | Total responses | Hours per response | Total burden hours
Data Collection Worksheet | 400 | 1 | 400 | 1.0 | 400
Deferment Request Form | 60 | 1 | 60 | .25 | 15
Six-Month Service Obligation Verification Form | 700 | 2 | 1,400 | .50 | 700
Total |  |  | 1,860 |  | 1,115

Written comments and recommendations concerning the proposed information collection should be sent within 30 days of this notice to the OMB desk officer for HRSA, either by e-mail to OIRA_submission@omb.eop.gov or by fax to 202-395-6974. Please direct all correspondence to the “attention of the OMB desk officer for HRSA.”

Dated: December 21, 2010.
Robert Hendricks,
Director, Division of Policy and Information Coordination.

[FR Doc. 2010-32562 Filed 12-27-10; 8:45 am]

BILLING CODE 4165-15-P